DEPARTMENT OF AGRICULTURE

Forest Service

Sheep Creek Range Analysis EIS—Lewis and Clark National Forest

AGENCY: Forest Service, USDA.

ACTION: Notice of intent to prepare an environmental impact statement.

SUMMARY: The Forest Service will prepare an environmental impact statement on a proposal to implement the direction and objectives of the Forest Plan (in compliance with applicable laws, regulations and policies) in authorizing livestock grazing in the Sheep Creek area of the White Sulphur Springs Ranger District on the Lewis and Clark National Forest, Montana.

DATES: Comments concerning the scope of the analysis and issues were received during a comment period in June 2001. Although the formal scoping period is completed for this EIS, comments will be accepted and an opportunity to comment on the draft EIS will be provided.

ADDRESSES: Send written comments to Timothy J. Benedict, White Sulphur Springs District Ranger, Lewis and Clark National Forest, PO. Box A, Great Falls, MT 59645. Electronic mail may be sent to comment/1_lewisclark@fs.fed.us.

FOR FURTHER INFORMATION CONTACT: Eldon Rash, EIS Team Leader, (406) 791-7700.

SUPPLEMENTARY INFORMATION: The schedule developed by the Lewis and Clark National Forest, as outlined by the 1995 Rescission Bill, requires adequate National Environmental Policy Act planning be completed on the Sheep Creek allotments by 2001. The Forest Plan prescribes allotment planning on intervals of 10 to 20 years. Of the cattle and horse allotments being analyzed, 23 would have out-dated plans by end of 2001. None of the 5 special use pastures, 2 agriculture special uses or 2 administrative pastures have current plans. Eleven parcels of National Forest System lands are fenced with private land, but are not currently authorized for use under a permit. The proposed actions assume that the proposed land exchange between the Forest Service and the Bair Foundation in the Tenderfoot area will be completed as proposed. If the exchange does not occur, allocation of livestock between private and forest permits in the Bald Hills and Tenderfoot allotments will be revised based on forage capacity of each ownership. The proposed actions are expected to be implemented over a four-year period after the decision is made.

Decisions To Be Made: The District Ranger will decide whether to (a) authorize grazing on reorganized allotments, (b) establish maximum allowable use standards for each pasture, (c) establish seasonal rotation of grazing, (d) reduce length of season of grazing, (e) issue special use permits and/or relocate fences to eliminate unauthorized livestock grazing, (f) construct range improvement and implement ecosystem prescribed burning, and (g) monitor allotments on a schedule.

Responsible Official: Timothy J. Benedict, White Sulphur Spring District Ranger, is the Responsible Official for making the decision to implement any of the alternatives evaluated. He will document his decision and rationale in a Record of Decision.

Preliminary Issues: Issues associated with allotment management planning include upland vegetation, riparian area function, and economics.

Public Involvement, Rationale, and Public Meetings: Scoping for this project began in September 2001. A letter was sent to 109 individuals requesting comment on the proposed action. Scoping comments were received from seventeen individuals or interest groups and will be considered for alternative development, however, public participation in this analysis is welcome at any time. A 45-day review period for comments on the Draft EIS will be provided. Comments received will be considered and included in documentation of the Final EIS. The public is encouraged to take part in the process and to visit with Forest Service officials at any time during the analysis and prior to the decision. The Forest Service has sought and will continue to seek information, comments and assistance from Federal, State and local agencies and other individuals or organizations who may be interested in, or affected by, the proposed action.

Electronic Access and Filing Addresses: Comments may be sent by electronic mail (e-mail) to comment/r1_lewisclark@fs.fed.us. Please reference the Sheep Creek Range Analysis EIS on the subject line. Also, include your name and mailing address with your comments so documents pertaining to this project may be mailed to you.

Estimated Dates for Filing: The Draft EIS is expected to be filed with the Environmental Protection Agency (EPA) and to be available for public review by June, 2002. At that time EPA will publish a Notice of Availability of the draft EIS in the Federal Register. The comment period on the draft EIS will be 45 days from the date the EPA publishes the Notice of Availability in the Federal Register. It is very important that those interested in the management of this area participate at that time.

The final EIS is scheduled to be completed by September, 2002. In the final EIS, the Forest Service is required to respond to comments received during the comment period that pertain to the environmental consequences of the action, as well as those pertaining to applicable laws, regulations, and policies. These will be considered in making a decision regarding the proposal.

The Reviewers Obligation To Comment: The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: February 11, 2002.
Rick Prausa,
Lewis and Clark Forest Supervisor.

[FR Doc. 02-3879 Filed 2-15-02; 8:45 am]

BILLING CODE 3410-11-M